DEPARTMENT OF ENERGY

Federal Energy Regulatory Commission

Combined Notice of Filings

Take notice that the Commission has received the following Natural Gas Pipeline Rate and Refund Report filings:

Filings Instituting Proceedings

Docket Numbers: RP15-1048-000.

Applicants: Bluewater Gas Storage, LLC.

Description: § 4(d) rate filing per 154.204: Bluewater Gas Storage, LLC Modifications to Tariff Creditworthiness Provisions to be effective 7/10/2015.

Filed Date: 6/4/15.

Accession Number: 20150604-5133.

Comments Due: 5 p.m. ET 6/16/15.

Docket Numbers: RP15-1049-000.

Applicants: Enable Mississippi River Transmission, L.

Description: § 4(d) rate filing per 154.204: Negotiated Rate Filing to Amend LER 5680's Attachment A_6-4-15 to be effective 6/4/2015.

Filed Date: 6/4/15.

Accession Number: 20150604-5156.

Comments Due: 5 p.m. ET 6/16/15.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-954-001.

Applicants: Tuscarora Gas Transmission Company.

Description: Compliance filing per 154.203: Compliance to RP15-954-000 to be effective 6/1/2015.

Filed Date: 6/5/15.

Accession Number: 20150605-5113.

Comments Due: 5 p.m. ET 6/17/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 8, 2015.
Nathaniel J. Davis, Sr.,
Deputy Secretary.

[FR Doc. 2015-14488 Filed 6-12-15; 8:45 am]

BILLING CODE 6717-01-P